DEPARTMENT OF ENERGY

Federal Energy Regulatory Commission

Notice of Amendment of License and Soliciting Comments, Motions To Intervene, and Protests

May 2, 2001.

Take notice that the following hydroelectric application has been filed with the Commission and is available for public inspection:

a. Application Type: Amendment of license.

b. Project No.: 176-025.

c. Date Filed: March 27, 2001.

d. Applicant: City of Escondido.

e. Name of Project: Escondido Hydroelectric Project.

f. Location: Partially along the San Luis Rey River and Escondido Creek, northeast of the City of Escondido, in northern San Diego County, California. The project area does utilize federal lands administered by the U.S. Bureau of Land Management and tribal lands (including the Rincon, San Pasqual, and La Jolla Indian Reservations).

g. Filed Pursuant to: 18 CFR 4.200.

h. Applicant Contact: Mr. Jack Hoagland, City of Escondido, 201 N. Broadway, Escondido, California 92025. (760) 839-4546.

i. FERC Contact: Any questions on this notice should be addressed to: (a) CarLisa Linton at (202) 219-2802 or e-mail address carlisa.lintonpeters@ferc.fed.us.; or (b) Anum Purchiaroni at (202) 219-3297 or e-mail address anumzziata.purchiaroni@ferc.fed.us.

j. Deadline for filing comments and/or motions: May 29, 2001.

All documents (original and eight copies) should be filed with: David P. Boergers, Secretary, Federal Energy Regulatory Commission, 888 First Street, N.E., Washington, D.C., 20426. Please include the Project Number (P-176-025) on any comments or motions filed. Motions to intervene, protests and comments may also be filed electronically via the internet in lieu of paper. See 18 CFR 385.2001(a)(1)(iii) and the instructions on the Commission's web site at: http://www.ferc.fed.us/efi/doorbell.htm.

k. Description of Proposed Project: The City of Escondido, filed a proposal to replace the Rincon and Wohlford penstocks, two structurally degraded pipelines in northern San Diego County, California. The existing Rincon penstock would be removed and disposed of then replaced within the same alignment with an approximately 1,940-foot (0.36-mile) long below-grade, welded-steel penstock. The new Wohlford penstock would be approximately 4,070 feet (0.77-mile) long and would deviate from the original alignment to avoid geologically unstable areas and impacts to biological resources. Approximately 2.600 feet of the proposed penstock would be located within rights-of-way for Oakvale and Lake Wohlford Roads. The proposed Wohlford penstock would be installed below-grade with the exception of one section. Both new penstocks would be designed to maintain, as closely as possible, the original hydraulic conditions, including flow rates, power generating capacity, and headloss.

l. Locations of the Application: A copy of the application, filed March 27, 2001, is available for inspection and reproduction at the Commission's Public Reference Room, located at 888 First Street, NE, Room 2A, Washington, D.C. 20426, or by calling (202) 208-1371. This application may be viewed on the internet at http://www.ferc.fed.us/online/rims.htm (call (202) 208-2222 for assistance). A copy is available for inspection and reproduction at the address listed in item “h” above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS” “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant as specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-11479 Filed 5-4-01; 8:45 am]

BILLING CODE 6717-01-M